DEPARTMENT OF HOMELAND SECURITY

Coast Guard

[Docket No. USCG-2022-0259]

Safe Loading, Safe Powering and Flotation Compliance Guidance for Electrically Powered Recreational Vessels Policy Letter

AGENCY: Coast Guard, DHS.

ACTION: Notice of availability and request for comments.

SUMMARY: The Coast Guard announces the online availability, of a new Coast Guard policy that establishes regulatory compliance guidance for recreational vessels less than 20 feet in length that use batteries to power their primary propulsion. This document provides consistent guidance for the design, inspection, and/or testing of recreational vessels using batteries to power their primary propulsion. The policy can be found at https://safeafloat.com/policies-letters/.

DATES: Comments must be submitted to the online docket via https://www.regulations.gov on or before November 9, 2022.

ADDRESSES: You may submit comments identified by docket number USCG-2022-0259 using the Federal eRulemaking Portal at https://www.regulations.gov. See the “Public Participation and Request for Comments” portion of the SUPPLEMENTARY INFORMATION section for further instructions on submitting comments.

FOR FURTHER INFORMATION CONTACT: For information about this document call or email Mr. Kevin Ferrie, Coast Guard; telephone 202-372-1075, email kevin.b.ferrie@uscg.mil.

SUPPLEMENTARY INFORMATION:

Public Participation and Comments

We encourage you to submit comments (or related material) on the draft guidance document in the docket. We will consider all submissions and may adjust our final action based on your comments. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice as being available in the docket, and public comments, are in our online docket at http://www.regulations.gov and can be viewed by following that website's instructions. We review all comments received, but we may choose not to post off-topic, inappropriate, or duplicate comments that we receive. If you go to the online docket and sign up for email alerts, you will be notified when comments are posted or a final document is published.

We accept anonymous comments. Comments we post to https://www.regulations.gov will include any personal information you have provided. For more about privacy and submissions in response to this document, see DHS's eRulemaking System of Records notice (85 FR 14226, March 11, 2020).

Background and Purpose

Advances in battery technology have enabled new possibilities in boat power and propulsion systems. Currently, internal combustion engines using lead-acid or absorbent glass mat (AGM) batteries comprise the vast majority of recreational vessel propulsion installations. However, recent advancements in the development of lithium-ion (Li-ion) battery technology have made all-electric systems possible on some recreational vessels. Li-ion batteries are becoming more cost-effective and deliver one of the highest energy densities of any currently available battery technology, making these batteries and electric motors a viable alternative to internal combustion engines and traditional lead acid and AGM batteries for powering recreational vessels.

Current regulations for safe loading, safe powering and flotation in 33 CFR subchapter S were promulgated with the expectation that internal combustion engines for propulsion would be used and did not anticipate the use of batteries and electric motors for these functions. As a result, further clarification is needed to determine capacities required by 33 CFR subchapter S when internal combustion engines are replaced with electric motors and large Li-ion battery installations. The policy provides consistent guidance for the design, inspection, and/or testing of recreational vessels using batteries to power their primary propulsion.

This notice is issued under authority of 5 U.S.C. 552(a).

Dated: July 6, 2022.
Jeffrey A. Ludwig,
Chief, Recreational Boating Product Assurance Branch, United States Coast Guard.

[FR Doc. 2022-17288 Filed 8-10-22; 8:45 am]

BILLING CODE 9110-04-P